DEPARTMENT OF HEALTH AND HUMAN SERVICES

Centers for Disease Control and Prevention

[30-Day-11-10GI]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluating Act Against AIDS Social Marketing Campaign Phases Targeting Consumers—New—National Center for HIV/AIDS, Viral Hepatitis, STD and TB Prevention (NCHHSTP), Centers for Disease Control and Prevention (CDC).

Background and Brief Description

In response to the continued HIV epidemic in our country, CDC has launched Act Against AIDS (AAA), a 5-year, multifaceted communication campaign to reduce HIV incidence in the United States. CDC plans to release the campaign in phases, with some of the phases running concurrently. Each phase of the campaign will use mass media and direct-to-consumer channels to deliver HIV prevention and testing messages. Some components of the campaign will be designed to provide basic education and increase awareness of HIV/AIDS among the general public, and others will be targeted to specific subgroups or communities at greatest risk of infection. The current study addresses the need to assess the effectiveness of these social marketing messages aimed at increasing HIV awareness and delivering HIV prevention and testing messages among at-risk populations.

This study will evaluate the AAA social marketing campaign aimed at increasing HIV/AIDS awareness, increasing prevention behaviors, and improving HIV testing rates among consumers. The study will consist of a quarterly tracking survey of AAA target audiences to measure exposure to each phase of the campaign and interventions implemented under AAA. Each extended survey will have a core set of items asked in all rounds, as well as a module of questions relating to specific AAA activities and communication initiatives that are occurring during a given quarter. Each extended survey sample will consist of 1,000 respondents selected from a combination of sources, including a national opt-in e-mail list sample and respondent lists generated by partnership organizations (e.g., the National Urban League, the National Medical Association). Participants will self-administer the extended survey at home on personal computers. The research will include 12 data collections over a 3-year period: four self-administered quarterly extended surveys per year over 3 years, with a total of 12,000 respondents. There is no cost to the respondents other than their time. The total estimated annual burden hours are 2667.

Estimated Annualized Burden Hours
Respondents | Form name | Number of respondents | Number of responses per respondent | Average burden per response (in hours)
Individuals (male and female) aged 18 years and older/Study Screener | Study Screener | 20,000 | 1 | 2/60
Individuals (male and female) aged 18 years and older | Extended survey | 4,000 | 1 | 30/60

Dated: April 21, 2011.
Daniel Holcomb,
Reports Clearance Officer, Centers for Disease Control and Prevention.

[FR Doc. 2011-10256 Filed 4-27-11; 8:45 am]

BILLING CODE P